DEPARTMENT OF HEALTH AND HUMAN SERVICES

Centers for Disease Control and Prevention

[Docket Number: NIOSH 232]

Board of Scientific Counselors, National Institute for Occupational Safety and Health (BSC, NIOSH), National Firefighter Registry Subcommittee

AGENCY: Centers for Disease Control and Prevention (CDC), Department of Health and Human Services (HHS).

ACTION: Notice of meeting.

SUMMARY: In accordance with the Federal Advisory Committee Act, the CDC announces the following meeting of the Board of Scientific Counselors (BSC), National Institute for Occupational Safety and Health (NIOSH), National Firefighter Registry Subcommittee. This meeting is open to the public via webcast and by teleconference. If you wish to attend by webcast or teleconference, please register at the NIOSH website https://www.cdc.gov/niosh/bsc/nfrs/registration.html or call (513-841-4203) at least five business days in advance of the meeting. Adobe Connect webcast will be available at https://niosh-connect.adobeconnect.com/nfrs/event/event_info.html for participants wanting to connect remotely, teleconference is available toll-free at (855) 644-0229, and the participant pass code is 9777483. This meeting is open to the public, limited only by the number of adobe license seats available, which is 1,000. The public is welcome to participate during the public comment period, from 11:15 a.m. to 12:00 p.m., EDT, on May 15, 2020. Please note that the public comment period ends at the time indicated above.

DATES: The meeting will be held on May 15, 2020, from 10:00 a.m. to 5:00 p.m., EDT.

ADDRESSES: The web conference access is https://niosh-connect.adobeconnect. com/nfrs/event/event_info.html and the teleconference access is (855) 644-0229, and the participant pass code is 9777483.

FOR FURTHER INFORMATION CONTACT: Paul J. Middendorf, Ph.D., Executive Secretary, National Firefighter Registry Subcommittee of the NIOSH Board of Scientific Counselors, NIOSH, CDC, 2400 Century Parkway NE, MS V24-4, Atlanta, GA 30345, telephone (404) 498-6439, or email at pmiddendorf@cdc.gov.

SUPPLEMENTARY INFORMATION:

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors Subcommittee for the National Firefighter Registry (the Subcommittee) provides guidance to the Director, National Institute for Occupational Safety and Health on matters related to the National Firefighter Registry. Specifically, the Subcommittee provides guidance and professional input to the Board of Scientific Counselors (BSC) that will assist the BSC in advising the Director about NIOSH's efforts to establish and operate the National Firefighter Registry. The Subcommittee advises the Board of Scientific Counselors (BSC) on the following issues pertaining to the “required strategy” as mandated by the Firefighter Cancer Registry Act of 2018 (the Act): (1) Increase awareness of the National Firefighter Registry and encouraging participation among all groups of firefighters, (2) consider data collection needs, (3) consider data storage and electronic access of health information, and (4) in consultation with subject matter experts develop a method for estimating the number and type of fire incidents attended by a firefighter. Additional responsibilities of the Subcommittee are to provide guidance to the BSC regarding inclusion and the maintenance of data on firefighters as required by the Act.

Matters to be Considered: The agenda for the meeting addresses issues related to: The National Firefighter Registry protocol including the questionnaire, enrollment process, and data sharing. Agenda items are subject to change as priorities dictate. An agenda is also posted on the NIOSH website https://www.cdc.gov/niosh/bsc/nfrs/.

Comments should be specifically related to the National Firefighter Registry protocol which can be found in docket 232 or by visiting the subcommittee website: https://www.cdc.gov/niosh/bsc/nfrs/. Each commenter will be provided up to five minutes for comment. A limited number of time slots are available and will be assigned on a first come-first served basis. Members of the public who wish to address the NIOSH BSC Subcommittee are requested to contact the Executive Secretary for scheduling purposes (see contact information below). Written comments will also be accepted from those unable to attend the public session. Written comments can be sent directly to the Docket for the NFRS at NIOSH Docket Office, Docket #232, 1090 Tusculum Avenue, Mail Stop C-34, Cincinnati, OH 45226, or emailed to the niocindocket@cdc.gov. The Docket number must be specified on the comments. Comments received by May 6, 2020, will be provided to the Subcommittee prior to the meeting. The docket will close May 22, 2020 and will be considered by the National Firefighter Registry Program when developing the final protocol.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-07304 Filed 4-6-20; 8:45 am]

BILLING CODE 4163-18-P